DEPARTMENT OF AGRICULTURE

Forest Service

Olympic Peninsula Resource Advisory Committee

AGENCY: Forest Service, USDA.

ACTION: Notice of meeting.

SUMMARY: The Olympic Peninsula Resource Advisory Committee (RAC) will hold its next meeting on March 6, 2002. The meeting will be held at the Jamestown S'Klallam Tribal Center's conference room, 1033 Old Blyn Highway, Blyn, Washington. The meeting will begin at 9:30 am and end at approximately 3:30 pm. Agenda topics are: Introductions; Approval of minutes of previous meeting; Bylaw update; Update on Title III Projects; Review and select process for applications; Presentation of project proposals; Selection of recommended projects and priorities; Public comments; and Identify next meeting date and location.

All Olympic Peninsula Resource Advisory Committee Meetings are open to the public. Interested citizens are encouraged to attend.

FOR FURTHER INFORMATION CONTACT: Direct questions regarding this meeting to Ken Eldredge, RAC Liaison, USDA, Olympic National Forest Headquarters, 1835 Black Lake Blvd., Olympia, WA 98512-5623, (360) 956-2323 or Dale Hom, Forest Supervisor and Designated Federal Official, at (360) 956-2301.

Dated: February 6, 2002.
Dale Hom,
Forest Supervisor, Olympic National Forest.

[FR Doc. 02-3590 Filed 2-13-02; 8:45 am]

BILLING CODE 3410-11-M